DEPARTMENT OF THE TREASURY

Office of Foreign Assets Control

Unblocking of Specially Designated Nationals and Blocked Persons Pursuant to Executive Order 12978

AGENCY: Office of Foreign Assets Control, Treasury.

ACTION: Notice.

SUMMARY: The Department of the Treasury's Office of Foreign Assets Control (“OFAC”) is publishing the names of five individuals and one entity whose property and interests in property have been unblocked pursuant to Executive Order 12978 of October 21, 1995, “Blocking Assets and Prohibiting Transactions With Significant Narcotics Traffickers”. In addition, OFAC is publishing an amendment to the identifying information of one individual previously designated pursuant to Executive Order 12978.

DATES: The unblocking and removal from the list of Specially Designated Nationals and Blocked Persons (“SDN List”) of the five individuals and one entity identified in this notice whose property and interests in property were blocked pursuant to Executive Order 12978 of October 21, 1995, is effective on August 29, 2012.

FOR FURTHER INFORMATION CONTACT: Assistant Director, Sanctions Compliance & Evaluation, Department of the Treasury, Office of Foreign Assets Control, Washington, DC 20220, Tel: (202) 622-2490.

SUPPLEMENTARY INFORMATION:

Electronic and Facsimile Availability

This document and additional information concerning OFAC are available from OFAC's Web site (www.treasury.gov/ofac) or via facsimile through a 24-hour fax-on demand service at (202) 622-0077.

Background

On October 21, 1995, the President, invoking the authority, inter alia, of the International Emergency Economic Powers Act (50 U.S.C. 1701-1706) (“IEEPA”), issued Executive Order 12978 (60 FR 54579, October 24, 1995) (the “Order”). In the Order, the President declared a national emergency to deal with the threat posed by significant foreign narcotics traffickers centered in Colombia and the harm that they cause in the United States and abroad.

Section 1 of the Order blocks, with certain exceptions, all property and interests in property that are in the United States, or that hereafter come within the United States or that are or hereafter come within the possession or control of United States persons, of: (1) The foreign persons listed in an Annex to the Order; (2) any foreign person determined by the Secretary of Treasury, in consultation with the Attorney General and the Secretary of State: (a) To play a significant role in international narcotics trafficking centered in Colombia; or (b) to materially assist in, or provide financial or technological support for or goods or services in support of, the narcotics trafficking activities of persons designated in or pursuant to the Order; and (3) persons determined by the Secretary of the Treasury, in consultation with the Attorney General and the Secretary of State, to be owned or controlled by, or to act for or on behalf of, persons designated pursuant to the Order.

On August 29, 2012, the Acting Director of OFAC removed from the SDN List the five individuals and one entity listed below, whose property and interests in property were blocked pursuant to the Order:

Individuals

1. JARAMILLO ARIAS, Juan Guillermo, c/o PROVIDA E.U., Cali, Colombia; DOB 06 Dec 1959; Cedula No. 16634644 (Colombia); Passport 16634644 (Colombia) (individual) [SDNT].

2. TRISTAN GIL, Luz Maria (a.k.a. TRISTAN GIL, Luz Mery), Carrera 122 No. 20-02, Cali, Colombia; Calle 16 No. 15-30, Cali, Colombia; Calle 5B 4 No. 37-125, Cali, Colombia; c/o CREDISA S.A., Cali, Colombia; c/o LUZ MERY TRISTAN E.U., Cali, Colombia; DOB 01 Apr 1963; POB Cali, Valle, Colombia; Cedula No. 31895852 (Colombia); Passport 31895852 (Colombia) (individual) [SDNT].

3. RENTERIA CAICEDO, Maria Cecilia, 18801 Collins Avenue, Apt. 322-3, Sunny Isles Beach, FL 33160; Diagonal 130 No. 7-20, Apt. 806, Bogota, Colombia; 85 Brainerd Road, Townhouse 9, Allston, MA 02134; Avenida 11 No. 7N-166, Cali, Colombia; Calle 90 No. 10-05, Bogota, Colombia; c/o COMPANIA AGROPECUARIA DEL SUR LTDA., Bogota, Colombia; c/o INVERSIONES AGROINDUSTRIALES DEL OCCIDENTE LTDA., Bogota, Colombia; c/o CANADUZ S.A., Cali, Colombia; DOB 27 May 1981; POB Cali, Colombia; nationality Colombia; citizen Colombia; Cedula No. 52410645 (Colombia); Passport AF624588 (Colombia); alt. Passport AD454168 (Colombia) (individual) [SDNT].

4. ROJAS MEJIA, Hernan, c/o COLOR 89.5 FM STEREO, Cali, Colombia; Calle 2A Oeste No. 24B-45 apt. 503A, Cali, Colombia; Calle 6A No. 9N-34, Cali, Colombia; c/o CONSTRUCCIONES COLOMBO-ANDINAS LTDA., Bogota, Colombia; c/o INVERSIONES Y CONSTRUCCIONES ABC S.A., Cali, Colombia; c/o OCCIDENTAL COMUNICACIONES LTDA., Cali, Colombia; DOB 28 Aug 1948; Cedula No. 16242661 (Colombia) (individual) [SDNT].

5. CASTANO PATINO, Maria Janet, c/o CONSTRUVIDA S.A., Cali, Colombia; DOB 26 Oct 1958; Cedula No. 31149394 (Colombia) (individual) [SDNT].

Entity

1. LUZ MERY TRISTAN E.U. (a.k.a. CLUB DEPORTIVO LUZ MERY TRISTAN WORLD CLASS; a.k.a. LUZ MERY TRISTAN WORLD CLASS), Carrera 125 No. 19-275, Cali, Colombia; Diagonal 32 No. 37-125, Cali, Colombia; Holguines Trade Center L-239, Cali, Colombia; Calle 5B 4 No. 37-125, Cali, Colombia; Avenida 6 Norte No. 17-92 Apt. 508, Cali, Colombia; NIT # 805449310-7 (Colombia); alt. NIT # 805012268-9 (Colombia) [SDNT].

In addition, OFAC has amended the identifying information for the following individual previously designated pursuant to Executive Order 12978:

1. HODWALKER MARTINEZ, Martin David (a.k.a. “TILO”), c/o VERANILLO DIVE CENTER LTDA., Barranquilla, Colombia; c/o MARTIN HODWALKER M. Y CIA. S. EN C., Barranquilla, Colombia; c/o YAMAHA VERANILLO DISTRIBUIDORES, Barranquilla, Colombia; c/o DESARROLLO GEMMA CORPORATION, Panama City, Panama; c/o HODWALKER Y LEAL Y CIA. S.C.A., Barranquilla, Colombia; c/o YAMAHA MUNDIAL LIMITADA, Santa Marta, Colombia; DOB 26 Dec 1968; POB Colombia; Cedula No. 8534760 (Colombia); Passport AF465508 Colombia (individual) [SDNT].

The listing for this individual now appears as follows:

1. HODWALKER MARTINEZ, Martin David (a.k.a. “TILO”); DOB 26 Dec 1968; POB Colombia; Cedula No. 8534760 (Colombia); Passport AF465508 Colombia (individual) [SDNT] Linked To: YAMAHA VERANILLO DISTRIBUIDORES; Linked To: VERANILLO DIVE CENTER LTDA.; Linked To: MARTIN HODWALKER M. & CIA. S. EN C.; Linked To: DESARROLLO GEMMA CORPORATION; Linked To: HODWALKER Y LEAL Y CIA. S.C.A.

Dated: August 29, 2012.
Barbara C. Hammerle,
Acting Director, Office of Foreign Assets Control.

[FR Doc. 2012-21888 Filed 9-5-12; 8:45 am]

BILLING CODE 4810-AL-P